DEPARTMENT OF COMMERCE

National Telecommunications and Information Administration

Announcement of Performance Review Board Members

AGENCY: National Telecommunications and Information Administration,Department of Commerce.

ACTION: Notice.

SUMMARY: 5 CFR 430.310 requires agencies to publish notice of Performance Review Board appointees in the Federal Register before their service begins. This notice announces the names of new and existing members of the National Telecommunications and Information Administrations' Performance Review Board.

FOR FURTHER INFORMATION CONTACT: Anthony Calza, National Telecommunications and Information Administration, Chief, Management Division, at (202) 482-2196, Room 4888, Washington, DC 20230.

SUPPLEMENTARY INFORMATION: The purpose of the Performance Review Board is to review and make recommendations to the appointing authority on performance management issues such as appraisals, bonuses, pay level increases, and Presidential Rank Awards for members of the Senior Executive Service.

The Acting Assistant Secretary for Communications and Information, John M.R. Kneuer, has named the following members of the National Telecommunications and Information Administration Performance Review Board:

1. Frederick R. Wentland, Associate Administrator for Spectrum Management (Chairperson).

2. Bernadette McGuire-Rivera, Associate Administrator for Telecommunication and Information Applications (existing).

3. Alan W. Vincent, Associate Administrator for Telecommunication Sciences and Director, Institute for Telecommunication Sciences (existing).

4. Michael J. Crison, Director, Requirements, Planning and Systems Integration Division, National Oceanic and Atmospheric Administration (Outside reviewer).

5. Daniel C. Hurley, Director, Communications and Information Infrastructure Assurance Program, (new).

Dated: September 26, 2006.
Ronald A. Glaser,
Human Resources Officer.

[FR Doc. E6-16223 Filed 9-29-06; 8:45 am]

BILLING CODE 3510-60-P\